DEPARTMENT OF HOUSING AND URBAN DEVELOPMENT

24 CFR Parts 91 and 92

[Docket No. FR-5792-C-02]

RIN 2501-AD69

Changes to HOME Investment Partnerships (HOME) Program Commitment Requirement; Correction

AGENCY: Office of General Counsel, HUD.

ACTION: Interim final rule; correction.

SUMMARY: On December 2, 2016, HUD published an interim final rule that changes the commitment requirement of the HOME Investment Partnerships (HOME) Program. After publication, HUD discovered that the effective dates and comment due dates were inadvertently reversed. This document corrects the preamble to reflect a 30-day effective date and a 60-day comment period.

DATES: Effective Date: The corrected effective date for HUD's interim rule published on December 2, 2016 (81 FR 86947), is January 3, 2017.

FOR FURTHER INFORMATION CONTACT: With respect to this supplementary document, contact Ariel Pereira, Associate General Counsel for Legislation and Regulations, Department of Housing and Urban Development, 451 7th Street SW., Room 10238, Washington, DC 20410; telephone number 202-708-1793 (this is not a toll-free number). Individuals with speech or hearing impairments may access this number via TTY by calling the Federal Relay Service at 800-877-8339 (this is a toll-free number).

SUPPLEMENTARY INFORMATION: In the interim final rule FR Doc. 2016-28591, published on December 2, 2016, the following correction is made:

On page 86947, in the first column, correct the DATES section to read as follows:

Dates: Effective Date: January 3, 2017.

Comment Due Date: January 31, 2017.

Dated: December 6, 2016.
Aaron Santa Anna,
Assistant General Counsel for Regulations.

[FR Doc. 2016-29643 Filed 12-9-16; 8:45 am]

BILLING CODE 4210-67-P